DEPARTMENT OF HEALTH AND HUMAN SERVICES

Health Resources and Services Administration

Fiscal Year 2002 Competitive Cycle for the Graduate Psychology Education Program 93.191a

AGENCY: Health Resources and Services Administration, HHS.

ACTION: Notice.

SUMMARY: The Health Resources and Services Administration (HRSA) announces that applications will be accepted for the Graduate Psychology Education Program (GPEP) for Fiscal Year 2002.

Authorizing Legislation: These applications are solicited under section 755(b)(1)(J) of the Public Health Service Act as amended, and the FY 2002 Appropriations Act, Public Law 107-116 which provides $2 million to support graduate psychology education programs to train health service psychologists in accredited psychology programs.

Purpose: Grants will be awarded to assist eligible entities in meeting the costs to plan, develop, operate, or maintain graduate psychology education programs to train health service psychologists to work with underserved populations including children, the elderly, victims of abuse, the chronically ill or disabled and in areas of emerging needs, which will foster an integrated approach to health care services and address access for underserved populations. The Graduate Psychology Education Program addresses interrelatedness of behavior and health and the critical need for integrated health care services. Funding is available to doctoral programs or doctoral internship programs as defined and accredited by the American Psychological Association (APA). Funding may not be used for post-doctoral residency programs.

Eligible Applicants: Eligible entities are accredited health profession schools, universities, and other public or private nonprofit entities. Each Graduate Psychology Education Program must be accredited by the American Psychological Association (APA). As provided in section 750, to be eligible to receive assistance, the eligible entity must use such assistance in collaboration with two or more disciplines.

Funding Preference: A funding preference is defined as the funding of a specific category or group of approved applications ahead of other categories or groups of applications. This statutory general preference will only be applied to applications that rank above the 20th percentile of applications recommended for approval by the peer review group.

As provided in section 791(a) of the Public Health Service Act, preference will be given to any qualified applicant that: (1) Has a high rate for placing graduates in practice settings having the principal focus of serving residents of medically underserved communities; or (2) during the 2-year period preceding the fiscal year for which such an award is sought, has achieved a significant increase in the rate of placing graduates in such settings. “High Rate” refers to a minimum of 20 percent of graduates in academic year 1999-2000 or academic year 2000-2001, whichever is greater, who spend at least 50 percent of their worktime in clinical practice in the specified settings.

“Significant Increase in the Rate” means that, between academic years 1999-2000 and 2000-2001, the rate of placing graduates in the specified settings has increased by a minimum of 50 percent.

Estimated Amount of Available Funds: $1,900,000.

Estimated Number of Awards: 15-19.

Estimated Average Size of Each Award: $100,000-$130,000.

Estimated Funding Period: One year.

Application Requests, Availability, Date and Addresses: Application materials will be available for downloading via the Web on March 29, 2002. Applicants may also request a hardcopy of the application material by contacting the HRSA Grants Application Center, 901 Russell Avenue, Suite 450, Gaithersburg, Maryland, 20879, by calling at 1-877-477-2123, or by fax at 1-877-477-2345. In order to be considered for competition, applications must be received by mail or delivered to the HRSA Grants Application Center by no later than May 22, 2002. Applications received after the deadline date may be returned to the applicant and not processed.

Projected Award Date: August 30, 2002.

FOR FURTHER INFORMATION CONTACT: LCDR Young Song, Division of State, Community and Public Health, Bureau of Health Professions, HRSA, Room 8C-09, Parklawn Building, 5600 Fishers Lane, Rockville, Maryland 20857; or e-mail at ysong@hrsa.gov. Telephone number is (301) 443-3353.

Additional Information: A Technical Assistance Videoconference Workshop is being planned for sometime in April, 2002. Detailed information regarding this workshop will be in the application materials, and on the HRSA and APA Web site.

Dated: March 26, 2002.
Elizabeth M. Duke,
Administrator.

[FR Doc. 02-7830 Filed 4-1-02; 8:45 am]

BILLING CODE 4165-15-P